DEPARTMENT OF THE INTERIOR

National Park Service

[NPS-WASO-NAGPRA-NPS0040475; PPWOCRADN0-PCU00RP14.R50000]

Notice of Intended Repatriation: San Diego State University, San Diego, CA

AGENCY: National Park Service, Interior.

ACTION: Notice.

SUMMARY: In accordance with the Native American Graves Protection and Repatriation Act (NAGPRA), San Diego State University (SDSU) intends to repatriate certain cultural items that meet the definition of objects of cultural patrimony and that have a cultural affiliation with the Indian Tribes or Native Hawaiian organizations in this notice.

DATES: Repatriation of the cultural items in this notice may occur on or after August 11, 2025.

ADDRESSES: Send additional, written requests for repatriation of the cultural items in this notice to Jaime Lennox, San Diego State University, 5500 Campanile Drive, San Diego, CA 92182, email jlennox@sdsu.edu.

SUPPLEMENTARY INFORMATION: This notice is published as part of the National Park Service's administrative responsibilities under NAGPRA. The determinations in this notice are the sole responsibility of SDSU, and additional information on the determinations in this notice, including the results of consultation, can be found in the summary or related records. The National Park Service is not responsible for the determinations in this notice.

Abstract of Information Available

A total of 10 lots of cultural items have been requested for repatriation. The 10 lots of objects of cultural patrimony are one lot of lithics, one lot of metal items, four lots of shell, one lot counted shell, one lot of non-human faunal remains, one lot vegetal items, and one lot of soil samples. The items were collected at Fort Irwin, located in San Bernardino County, California in 1980 by Sonnier William Gonzalez (site CA-SBR-112, also known as the No Name Playa Site, SBCM 3369). It is unknown how and when the items came to be in SDSU's possession; SDSU accessioned the items as collection CMP-SDSU-0184 in 1980.

A total of five lots of cultural items have been requested for repatriation. The five lots of objects of cultural patrimony are one lot of lithic fragments, one lot of pottery sherds, one lot of lithic tools (including scrapers and projective points), one lot of worked non-human faunal item (projectile point), and one lot of wood. The items were collected in Coyote Basin, located in San Bernardino County, California, by T. Prewitt in 1966. T. Prewitt donated the items to SDSU in 1966; SDSU originally accessioned the items as collection 1966-11, and later as CMP-SDSU-0409.

Determinations

SDSU has determined that:

• The 15 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 11, 2025. If competing requests for repatriation are received, SDSU must determine the most appropriate requestor prior to repatriation. Requests for joint repatriation of the cultural items are considered a single request and not competing requests. SDSU is responsible for sending a copy of this notice to the Indian Tribes and Native Hawaiian organizations identified in this notice and to any other consulting parties.

Authority: Native American Graves Protection and Repatriation Act, 25 U.S.C. 3004 and the implementing regulations, 43 CFR 10.9.

Dated: June 25, 2025.
Melanie O'Brien,
Manager, National NAGPRA Program.

[FR Doc. 2025-12829 Filed 7-9-25; 8:45 am]

BILLING CODE 4312-52-P